ELECTION ASSISTANCE COMMISSION

Sunshine Act Meetings

AGENCY: U.S. Election Assistance Commission.

ACTION: Sunshine Act notice; notice of public roundtable agenda.

SUMMARY: Roundtable Discussion: Election Night Reporting for the 2020 Election.

DATES: Tuesday, October 20, 2020, 1:30 p.m.-2:30 p.m. Eastern.

ADDRESSES:

Virtual via Zoom

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual roundtable discussion on how some state election officials are preparing prepare for election night results reporting, and perspectives from a representative from the media and subject matter expert.

Agenda: The U.S. Election Assistance Commission (EAC) will hold a roundtable discussion on preparing for election night reporting and press coverage on election results. Speakers will offer remarks on issues surrounding misinformation and disinformation, unofficial results, managing expectations, ballots received after the election, and audits. Speakers will also answer questions from the EAC Commissioners.

The full agenda will be posted in advance on the EAC website: https://www.eac.gov.

Status: This roundtable discussion will be open to the public.

Amanda Joiner,
Associate Counsel, U.S. Election Assistance Commission.

[FR Doc. 2020-22772 Filed 10-9-20; 11:15 am]

BILLING CODE P